DEPARTMENT OF TRANSPORTATION

National Highway Traffic Safety Administration

[Docket No. NHTSA 2001-11041; Notice 1]

Toyota Motor Corporation; Receipt of Application for Decision of Inconsequential Noncompliance

Toyota Motor Corporation (TMC) has determined that certain 2000-2001 Model Year (MY) Celicas are equipped with daytime running lamps (DRLs) which fail to meet the spacing requirements of Federal Motor Vehicle Safety Standard (FMVSS) No. 108, “Lamps, Reflective Devices and Associated Equipment.”

Pursuant to 49 U.S.C. 30118(d) and 30120(h), TMC has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

The DRLs on the Celica are provided by the upper beam headlamps operating at a lower intensity, with each lamp having a maximum luminous intensity of roughly 5,880 candelas at test point H-V (as described in FMVSS No. 108 test procedures). S5.5.11(a)(4) of FMVSS No. 108 requires that “* * * if not optically combined with a turn signal lamp, (the DRL) (shall be) located so that the distance from its lighted edge to the optical center of the nearest turn signal lamp is not less than 100 mm, unless * * * the luminous intensity of the DRL is not more than 2,600 candela any location in the beam. * * *” However, for the noncompliant Celicas the distance from the DRL's lighted edge to the optical center of the nearest turn signal lamp is only 45.6 mm and therefore, the DRLs exceed the maximum luminous intensity specified in section 5.5.11(a)(4)(i) of FMVSS 108.

Toyota believes that this noncompliance is inconsequential to motor vehicle safety, and therefore creates no unreasonable risk to highway safety for the following reasons:

S.5.5.11(a) permits an upper beam headlamp intended to operate as a DRL to have a maximum intensity of 7000 cd, and in conjunction, a turn signal lamp with a minimum intensity of 200 cd, as long as the spacing is 100 mm or greater. Toyota conducted subjective evaluations of turn signal visibility using 20 contractors for the subject vehicles under various conditions, and confirmed that visibility for the subject vehicles is substantially better than vehicles that were modified to meet the minimum turn signal/maximum DRL luminous intensity permitted by the standard. According to Toyota's evaluation, the flashing of the subject turn signals can be readily discerned by a driver in an oncoming vehicle at a distance of 300 feet, and much more so than vehicles with modified signals/DRLs. The assessment distance of 300 feet is the same used in NHTSA's own evaluation of turn signal masking, as described in the final rule published in the Monday, January 11, 1992 Federal Register (58 FR 3500).

In addition to the subjective measures, we also provide the following technical factors which contribute to good visibility of the turn signal lamps:

The turn signal lighted area is 45.1cm \2\, two times larger than the 22cm \2\ required by FMVSS 108;

The luminous intensity of the subject vehicle's turn signal lamps are 568 cd, or 2.8 times the minimum value of 200 cd;

The substantial distance from the turn signal optical center (bulb filament axes) to the DRL's lighted edge is 82 mm, exceeding 80% of the requirements. In this case, the “substantial” distance refers to the distance from the turn signal's optical center to the actual lighted edge “A” (as given by the Figure below), although the theoretical lighted edge is point “C” (45.6mm). In the Figure, the lighted range from A to C of the reflector emits only light which is parallel to the axis of the DRL, which can only be seen by drivers in oncoming vehicles that are looking along the optical axis of the DRL. However, as one moves off center, this light is no longer visible. Therefore, the perceptible DRL's lighted area, except for the unique case where the eye-point is on the optical axis of the DRL, is actually from A to B (as given in the Figure).

The subject vehicles meet all the requirements of CMVSS 108 and the identical DRL requirements which are found in FMVSS 108 prior to October 1, 1995;

Finally, although Toyota has sold approximately 100,000 of the subject vehicles since the summer of 1999 in USA and Canada, it has not received any customer complaints nor accident reports that alleged problems with turn signal visibility or masking.

Toyota believes that the noncompliance in the subject vehicles is inconsequential to motor vehicle safety for the reasons outlined above, and therefore should be exempted from the notification and remedy requirements of the Safety Act for this specific noncompliance.

Interested persons are invited to submit written data, views, and arguments on the application described above. Comments should refer to the docket and notice number and be submitted to: U.S. Department of Transportation, Docket Management, Room PL-401, 400 Seventh Street, SW, Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: February 8, 2002.

(49 U.S.C. 301118, 301120; delegations of authority at 49 CFR 1.50 and 501.8)
Issued on: January 3, 2002.
Stephen R. Kratzke,
Associate Administrator for Safety Performance Standards.

[FR Doc. 02-555 Filed 1-8-02; 8:45 am]

BILLING CODE 4910-59-P